DEPARTMENT OF JUSTICE

Antitrust Division

Notice Pursuant to the National Cooperative Research and Production Act of 1993—National Center for Manufacturing Sciences, Inc.

Notice is hereby given that, on June 2, 2016, pursuant to section 6(a) of the National Cooperative Research and Production Act of 1993, 15 U.S.C. 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, BAE Systems Aerospace Defense Group, Inc., Phoenix, AZ; Barfield, Inc., Miami, FL; Claxton Logistics, Dumfries, VA; Copernicus Technology LTD, Ogden, UT; EADS North America Test and Services, Maryland Heights, MO; Elevate Systems, San Antonio, TX; FIVES Machining Systems Inc., Fond du Lac, WI; Flight Support, Inc., North Haven, CT; Great Lakes Composites Consortium, Inc., West Columbia, SC; Impact Resources, Inc. dba IR Technologies, Bethesda, MD; J Chadwick Co., Monrovia, CA; MagneGas Corporation, Rochester Hills, MI; MERC—Mercer Engineering Research Center, Beavercreek, OH; Michigan State University, East Lansing, MI; MKGCS, Herndon, VA; Moog Incorporated, Plymouth, MI; National Additive Manufacturing Innovation Institute, Gaithersburg, MD; National Center for Defense Manufacturing Machining (NCDMM), Chambersburg, PA; PPG Industries, Inc., Troy, MI; Pratt & Whitney, Hartford, CT; PYA Analytics, Knoxville, TN; RGS Associates Inc., Arlington, VA; Russells Technical Products, Holland, MI; Services and Solutions Group, LLC, Charleston, SC; Sikorsky Aircraft, Stratford, CT; Survivability Solutions, LLC, Troy, MI; Tata Technologies, Novi, MI; University of Delaware—Center for Composite Materials, Newark, DE; and Vectron International, Hudson, NH, have been added as parties to this venture.

Also, A&P Technology, Inc., Cincinnati, OH; Analysis, Integration & Design, Inc. (AIDI), Melbourne, FL; Bayer MaterialScience, LLC, Pittsburgh, PA; Bi-Phase Technologies, LLC, Eagen, MN; Connecticut Center for Advanced Technology, Inc. (CCAT), East Hartford, CT; Curtiss-Wright Surface Technologies, Duncan, SC; Detroit Regional Chamber, Detroit, MI; Engineering Technology Associates, Inc. (ETA), Troy, MI; Fraunhofer USA, Inc., Plymouth, MI; General Motors, LLC, Wixom, MI; Goodrich Corporation, Charlotte, NC; Gravikor, Inc., Ann Arbor, MI; H.A. Burrow Pattern Works, Inc., Joliet, MT; Ilumisys, Inc., Troy, MI; Imaginestics, LLC, West Lafayette, IN; Koops, Inc., Holland, MI; MAG-IAS, LLC, Hebron, KY; Michigan Department of Environmental Quality, Lansing, MI; Microsoft Corporation, Seattle, WA; PARC, a Xerox Company, Palo Alto, CA; Parker-Hannifin Corporation, Plymouth, MI; Perfect Point, Inc., Plymouth Meeting, PA; QinetiQ North America, Inc., McLean, VA; Radian Precision, Inc., Madison Heights, MI; RW Appleton & Company, Inc., Sterling Heights, MI; Tabor Communications, Inc. (TCI), San Diego, CA; Technical Objectives Professionals, LLC (TOP Inc.), Kasson, MN; TotalSim, LLC, Dublin, OH; University of California, Los Angeles (UCLA), Los Angeles, CA; University of Massachusetts—Lowell, Lowell, CA; and Wayne State University, Detroit, MI, have withdrawn as parties to this venture.

No other changes have been made in either the membership or planned activity of the group research project. Membership in this group research project remains open, and NCMS intends to file additional written notifications disclosing all changes in membership.

On February 20, 1987, NCMS filed its original notification pursuant to section 6(a) of the Act. The Department of Justice published a notice in the Federal Register pursuant to section 6(b) of the Act on March 17, 1987 (52 FR 8375).

The last notification was filed with the Department on March 25, 2014. A notice was published in the Federal Register pursuant to section 6(b) of the Act on April 30, 2014 (79 FR 24451).

Patricia A. Brink,
Director of Civil Enforcement, Antitrust Division.

[FR Doc. 2016-15964 Filed 7-5-16; 8:45 am]

BILLING CODE P